INTERNATIONAL TRADE COMMISSION

[Investigation Nos. 701-TA-555 and 731-TA-1310 (Review)]

Certain Amorphous Silica Fabric From China; Determinations

On the basis of the record ¹ developed in the subject five-year reviews, the United States International Trade Commission (“Commission”) determines, pursuant to the Tariff Act of 1930 (“the Act”), that revocation of the countervailing and antidumping duty orders on certain amorphous silica fabric from China would be likely to lead to continuation or recurrence of material injury to an industry in the United States within a reasonably foreseeable time.

¹ The record is defined in § 207.2(f) of the Commission's Rules of Practice and Procedure (19 CFR 207.2(f)).

Background

The Commission instituted these reviews on February 1, 2022 (87 FR 5511) and determined on May 9, 2022, that it would conduct expedited reviews (87 FR 53488, August 31, 2022).

The Commission made these determinations pursuant to section 751(c) of the Act (19 U.S.C. 1675(c)). It completed and filed its determinations in these reviews on September 22, 2022. The views of the Commission are contained in USITC Publication 5368 (September 2022), entitled Certain Amorphous Silica Fabric from China: Investigation Nos. 701-TA-555 and 731-TA-1310 (Review).

By order of the Commission.
Issued: September 22, 2022.
Katherine Hiner,
Acting Secretary to the Commission.

[FR Doc. 2022-20936 Filed 9-27-22; 8:45 am]

BILLING CODE 7020-02-P